DEPARTMENT OF DEFENSE

GENERAL SERVICES ADMINISTRATION

NATIONAL AERONAUTICS AND SPACE ADMINISTRATION

[OMB Control No. 9000-0142; Docket 2017-0053; Sequence 19]

Information Collection; Past Performance Information

AGENCY: Department of Defense (DOD), General Services Administration (GSA), and National Aeronautics and Space Administration (NASA).

ACTION: Notice of request for public comments regarding an extension to an existing OMB clearance.

SUMMARY: Under the provisions of the Paperwork Reduction Act the Regulatory Secretariat Division will be submitting to the Office of Management and Budget (OMB) a request to review and approve an extension of a previously approved information collection requirement concerning past performance information.

DATES: Submit comments on or before February 2, 2018.

ADDRESSES: Submit comments identified by Information Collection 9000-0142, Past Performance Information, by any of the following methods:

• Regulations.gov: http://www.regulations.gov.

Submit comments via the Federal eRulemaking portal by searching the OMB control number 9000-0142. Select the link “Comment Now” that corresponds with “Information Collection 9000-0142, Past Performance Information.” Follow the instructions provided on the screen. Please include your name, company name (if any), and “Information Collection 9000-0142, Past Performance Information,” on your attached document.

• Mail: General Services Administration, Regulatory Secretariat Division (MVCB), 1800 F Street NW., Washington, DC 20405. ATTN: Ms. Mandell/IC 9000-0142, Past Performance Information.

Instructions: Please submit comments only and cite “Information Collection 9000-0142, Past Performance Information”, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Curtis E. Glover, Sr., Procurement Analyst, Acquisition Policy Division, at GSA 202-501-1448 or email curtis.glover@gsa.gov.

SUPPLEMENTARY INFORMATION:

A. Purpose

Past performance information regarding a contractor's actions under previously awarded contracts is relevant information for future source selection purposes. The information collection requirements at FAR 15.304 and 42.15 remains the same; however, the public burden has been adjusted downward, based on the total annual responses. The estimated responses used to calculate the burden is based on the availability of data on Fiscal Year (FY) 2017 awards from existing systems (the Federal Procurement Data System and the Contractor Performance Assessment Reporting System).

B. Annual Reporting Burden

Responses During Source Selection

Respondents: 7,055.

Responses per Respondent: 4.

Annual Responses: 28,220.

Hours per Response: 2.

Total Burden Hours: 56,440.

Responses in CPARS

Respondents: 63,444.

Responses per Respondent: 1.

Annual Responses: 63,444.

Hours per Response: 2.

Total Burden Hours: 126,888.

Total Annual Burden: 183,328.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the 1800 F Street NW., Washington, DC 20405, telephone 202-501-4755.

Please cite OMB Control No. 9000-0142, Past Performance Information, in all correspondence.

Dated: November 29, 2017.
Lorin S. Curit,
Director, Federal Acquisition Policy Division, Office of Governmentwide Acquisition Policy, Office of Acquisition Policy, Office of Governmentwide Policy.

[FR Doc. 2017-26045 Filed 12-1-17; 8:45 am]

BILLING CODE 6820-EP-P